DEPARTMENT OF HEALTH AND HUMAN SERVICES

45 CFR Parts 147 and 158

[CMS-9915-N]

RIN 0938-AU04

Transparency in Coverage

AGENCY: Centers for Medicare & Medicaid Services, Department of Health and Human Services.

ACTION: Proposed rule; extension of comment period.

SUMMARY: This document extends the comment period for the proposed rule entitled, “Transparency in Coverage,” that published in the November 27, 2019, issue of the Federal Register. The comment period for the proposed rule, which would close on January 14, 2020, is extended 15 days to January 29, 2020.

DATES: The comment period for the proposed rule published November 27, 2019, at 84 FR 65464, is extended. To be assured consideration, comments must be received at one of the addresses provided below, no later than 5 p.m. on January 29, 2020.

ADDRESSES: Written comments may be submitted to the addresses specified below. Any comment that is submitted will be shared with the Department of the Treasury (Treasury Department), Internal Revenue Service (IRS) and the Department of Labor (DOL). Please do not submit duplicates.

Comments, including mass comment submissions, must be submitted in one of the following three ways (choose only one of the ways listed):

1. Electronically. You may submit electronic comments on this regulation to http://www.regulations.gov. Follow the “Submit a comment” instructions.

2. By regular mail. You may mail written comments to the following address ONLY: Centers for Medicare & Medicaid Services, Department of Health and Human Services, Attention: CMS-9915-P, P.O. Box 8010, Baltimore, MD 21244-8010.

Please allow sufficient time for mailed comments to be received before the close of the comment period.

3. By express or overnight mail. You may send written comments to the following address ONLY: Centers for Medicare & Medicaid Services, Department of Health and Human Services, Attention: CMS-9915-P, Mail Stop C4-26-05, 7500 Security Boulevard, Baltimore, MD 21244-1850.

For information on viewing public comments, see the beginning of the SUPPLEMENTARY INFORMATION section.

FOR FURTHER INFORMATION CONTACT:

Deborah Bryant, Centers for Medicare and Medicaid Services, (301) 492-4293

Christopher Dellana, Internal Revenue Service, (202) 317-5500

Matthew Litton or David Sydlik, Employee Benefits Security Administration, (202) 693-8335

Customer Service Information: Individuals interested in obtaining information from the DOL concerning employment-based health coverage laws may call the Employee Benefits Security Administration (EBSA) Toll-Free Hotline at 1-866-444-EBSA (3272) or visit DOL's website (http://www.dol.gov/ebsa). In addition, information from HHS on private health insurance for consumers can be found on the Centers for Medicare & Medicaid Services (CMS) website (www.cms.gov/cciio) and information on health reform can be found at http://www.healthcare.gov.

SUPPLEMENTARY INFORMATION: All comments will be made available to the public. Warning: Do not include any personally identifiable information (such as name, address, or other contact information) or confidential business information that you do not want publicly disclosed. All comments are posted on the internet exactly as received, and can be retrieved by most internet search engines. No deletions, modifications, or redactions will be made to the comments received, as they are public records. Comments may be submitted anonymously.

In commenting, please refer to file code CMS-9915-P. Because of staff and resource limitations, DOL, Department of Health and Human Services (HHS), and the Treasury Department (the Departments) cannot accept comments by facsimile (FAX) transmission.

In the “Transparency in Coverage” proposed rule that published in the November 27, 2019 Federal Register (84 FR 65464), the Departments solicited public comments on proposals to implement legislative mandates under sections 1311(e)(3) of the Patient Protection and Affordable Care Act (PPACA) and section 2715A of the Public Health Service (PHS) Act. The proposed rules set forth proposed requirements for non-grandfathered group health plans and health insurance issuers offering non-grandfathered health insurance coverage in the individual and group markets to disclose cost-sharing information upon request, to a participant, beneficiary, or enrollee (or his or her authorized representative), including an estimate of such individual's cost-sharing liability for covered items or services furnished by a particular provider. Under the proposed rules, plans and issuers would be required to make such information available on an internet website and, if requested, through non-internet means, thereby allowing a participant, beneficiary, or enrollee (or his or her authorized representative) to obtain an estimate and understanding of the individual's out-of-pocket expenses and effectively shop for items and services. The proposed rules also include proposals to require non-grandfathered plans and issuers offering non-grandfathered health insurance coverage to disclose in-network provider negotiated rates and historical out-of-network allowed amounts through two machine-readable files posted on an internet website, thereby allowing the public to have access to information that can be used to understand health care pricing and potentially dampen the rise in health care spending. HHS also proposed amendments to its medical loss ratio program rules established under section 2718 of the PHS Act to allow issuers offering group or individual health insurance coverage to receive credit in their medical loss ratio calculations for savings they share with enrollees that result from the enrollee's shopping for, and receiving care from, lower-cost, higher-value providers. The comment period for the rule was scheduled to close on January 14, 2019.

Since the publication in the Federal Register, there has been considerable interest expressed in the proposed rule, and some stakeholders have requested additional time to review and submit comments. The Departments value stakeholder feedback and want to gather as much information as possible as they consider whether and how to issue final rules. In response to these requests, the Departments are extending the period for submitting comments on the proposed rule to January 29, 2020.

Dated: December 26, 2019.
Seema Verma,
Administrator, Centers for Medicare & Medicaid Services.

[FR Doc. 2019-28290 Filed 12-27-19; 4:15 pm]

BILLING CODE 4120-01-P